GENERAL SERVICES ADMINISTRATION

[Notice-ID-2017-01; Docket 2017-0002; Sequence No. 1]

Privacy Act of 1974; System of Records

AGENCY: Office of the Deputy Chief Information Officer, General Services Administration, (GSA).

ACTION: Notice of a modified system of records.

SUMMARY: GSA proposes to add two routine uses and make minor or clarifying changes to two existing routine uses for a system of records subject to the Privacy Act of 1974, as amended, “Office of General Counsel Case Tracking and eDiscovery System,” broadly covers the information in identifiable form needed for tracking, storing and searching materials for litigation and pursuant to Freedom of Information Act (FOIA) requests. The previously published notice (82 FR 12350, March 2, 2017) is being revised to add two new routine uses and make minor or clarifying changes to two existing routine uses.

DATES: The two new routine uses and clarified routine use “e” are effective November 1, 2017. Comments on the two new routine uses and one clarified routine use for the system of records notice must be submitted by November 1, 2017.

ADDRESSES: Submit comments identified by “Notice-ID-2017-01, Notice of Revised System of Records” by any of the following methods:

• Regulations.gov: http://www.regulations.gov. Submit comments via the Federal eRulemaking portal by searching for Notice-ID-2017-01, Notice of Revised System of Records. Select the link “Comment Now” that corresponds with “Notice-ID-2017-01, Notice of Revised System of Records.” Follow the instructions provided on the screen. Please include your name, company name (if any), and “Notice-ID-2017-01, Notice of Revised System of Records” on your attached document.

• Mail: General Services Administration, Regulatory Secretariat Division (MVCB), 1800 F Street NW., Washington, DC 20405. ATTN: Mr. Poe/Notice-ID-2017-01, Notice of Revised System of Records.

Instructions: Comments received generally will be posted without change to http://www.regulations.gov, including any personal and/or business confidential information provided. To confirm receipt of your comment(s), please check http://www.regulations.gov, approximately two to three days after submission to verify posting (except allow 30 days for posting of comments submitted by mail).

FOR FURTHER INFORMATION CONTACT: Call or email the GSA Chief Privacy Officer: telephone 202-322-8246; email gsa.privacyact@gsa.gov.

SUPPLEMENTARY INFORMATION: The new routine uses will enable the system to disclose records to other agencies pursuant to GSA's FOIA consultation, referral, and coordination process (routine use “j”) and to the National Archives and Records Administration, Office of Government Information Services (OGIS) so that it may review agency compliance with FOIA, provide mediation services to resolve FOIA disputes, and identify policies and procedures for improving FOIA compliance (routine use “k”). In addition, a clarifying change is being made to more accurately reflect the meaning of existing routine use “e” but the scope of that routine use is not changing. Lastly, a minor change is being made to existing routine use “h” to reflect current Office of Management and Budget (OMB) guidance.

The new routine uses will permit disclosures pursuant to GSA's FOIA consultation, referral, and coordination process at 41 CFR 105-60.301 (routine use “j”) and to the National Archives and Records Administration, Office of Government Information Services (OGIS), for all purposes set forth in 5 U.S.C. 552(h)(2)(A-B) and (3) (new routine use “k”). A clarifying change is being made to more accurately reflect the meaning of existing routine use “e” and a minor change is being made to existing routine use “h” to reflect current Office of Management and Budget (OMB) guidance.

Richard Speidel,
Chief Privacy Officer, Office of the Deputy Chief Information Officer, General Services Administration.

SYSTEM NAME AND NUMBER:

Office of General Counsel Case Tracking and eDiscovery System, GSA/OGC-1.

SECURITY CLASSIFICATION:

Unclassified.

SYSTEM LOCATION:

The system is maintained electronically in the Office of General Counsel, the regional counsels' offices and the Office of Administrative Services.

SYSTEM MANAGER(S):

Office of General Counsel Central Office Records Management Coordinator, Office of General Counsel, General Services Administration, 1800 F Street NW., Washington, DC, 20405.

AUTHORITY FOR MAINTENANCE OF THE SYSTEM:

General authority to maintain the system is contained in 5 U.S.C. 301 and 44 U.S.C. 3101; the Federal Property and Administrative Services Act of 1949 (40 U.S.C. 501 et seq.); the Federal Tort Claims Act (28 U.S.C. 2671 et seq.); Claims (Chapter 37 of Title 31 of the U.S. Code).

PURPOSE(S) OF THE SYSTEM:

This system will track and store electronic information, including imaged and paper documents, to allow GSA to represent itself and its components in court cases and administrative proceedings and respond to FOIA requests. The system will provide for the collection of information to track and manage administrative matters, claims and litigation cases in the Office of General Counsel and for searches pursuant to FOIA requests processed by the Office of Administrative Services.

CATEGORIES OF INDIVIDUALS COVERED BY THE SYSTEM:

Individuals involved with administrative matters, claims or litigation with GSA. Individuals referenced in potential or actual cases and matters under the jurisdiction of the Office of General Counsel; and attorneys, paralegals, and other employees of the Office of General Counsel directly involved in these cases or matters.

CATEGORIES OF RECORDS IN THE SYSTEM:

The system contains information needed for administering and properly managing and resolving the cases in the Office of General Counsel and responding to FOIA requests. Records in this system pertain to a broad variety of administrative matters, claims and litigation under the jurisdiction of the Office of General Counsel including, but not limited to, torts, contract disputes, and employment matters. Records may include but are not limited to: Name, social security number, home address, home phone number, email address, birth date, financial information, medical records, or employment records.

RECORD SOURCE CATEGORIES:

The sources for information in the system are data from other systems, information submitted by individuals or their representatives, information gathered from public sources, and information from other entities involved in an administrative matter, claim or litigation.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed to authorized entities, as is determined to be relevant and necessary, outside GSA as a routine use pursuant to 5 U.S.C. 552a(b)(3) as follows:

a. To the Department of Justice or other Federal agency conducting litigation or in proceedings before any court, adjudicative or administrative body, when: (a) GSA or any component thereof, or (b) any employee of GSA in his/her official capacity, or (c) any employee of GSA in his/her individual capacity where DOJ or GSA has agreed to represent the employee, or (d) the United States or any agency thereof, is a party to the litigation or has an interest in such litigation, and GSA determines that the records are both relevant and necessary to the litigation.

b. To an appropriate Federal, State, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

c. To the Office of Personnel Management (OPM), the Office of Management and Budget (OMB), and the Government Accountability Office (GAO) in accordance with their responsibilities for evaluating Federal programs.

d. To an appeal, grievance, hearing, or complaints examiner; an equal employment opportunity investigator, arbitrator, or mediator; and an exclusive representative or other person authorized to investigate or settle a grievance, complaint, or appeal filed by an individual who is the subject of the record.

e. To a Member of Congress or his or her staff in response to a request made on behalf of and at the request of the individual who is the subject of the record.

f. To an expert, consultant, or contractor of GSA in the performance of a Federal duty to which the information is relevant.

g. To the National Archives and Records Administration (NARA) for records management purposes.

h. To appropriate agencies, entities, and persons when (1) GSA suspects or has confirmed that there has been a breach of the system of records, (2) GSA has determined that as a result of the suspected or confirmed breach there is a risk of harm to individuals, GSA (including its information systems, programs, and operations), the Federal Government, or national security; and (3) the disclosure made to such agencies, entities, and persons is reasonably necessary to assist in connection with GSA's efforts to respond to the suspected or confirmed breach or to prevent, minimize, or remedy such harm.

i. To another Federal agency or Federal entity, when GSA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

j. To another Federal agency, when GSA believes that it is reasonably necessary to ascertain whether that agency is better able to determine if the records are releasable under the FOIA, in accordance with GSA's consultation, referral, and coordination process at 41 CFR 105-60.301.

k. To the National Archives and Records Administration, Office of Government Information Services (OGIS), to the extent necessary to fulfill its responsibilities in 5 U.S.C. 552(h), to review administrative agency policies, procedures, and compliance with the Freedom of Information Act, and to facilitate OGIS' offering of mediation services to resolve disputes between persons making FOIA requests and administrative agencies.

POLICIES AND PRACTICES FOR STORAGE OF RECORDS:

Electronic records and backups are stored on secure servers approved by GSA Office of the Chief Information Security Officer (OCISO) and accessed only by authorized personnel. Paper files are stored in locked rooms or filing cabinets.

POLICIES AND PRACTICES FOR RETRIEVAL OF RECORDS:

Records are retrievable by a variety of fields including, without limitation, name of an individual involved in a case, email address, email heading, email subject matter, business or residential address, social security number, phone number, date of birth, contract files, litigation files or by some combination thereof.

POLICIES AND PRACTICES FOR RETENTION AND DISPOSAL OF RECORDS:

System records are retained and disposed of according to GSA records maintenance and disposition schedules and the requirements of the National Archives and Records Administration.

ADMINISTRATIVE, TECHNICAL AND PHYSICAL SAFEGUARDS:

Access is limited to authorized individuals with passwords or keys. Electronic files are maintained behind a firewall, and paper files are stored in locked rooms or filing cabinets.

RECORD ACCESS PROCEDURES:

Individuals wishing to access their own records should contact the system manager at the above address. Procedures for accessing the content of a record in the Case Tracking and eDiscovery System and appeal procedures can also be found at 41 CFR Part 105-64.2.

CONTESTING RECORD PROCEDURES:

Individuals wishing to contest the content of any record pertaining to him or her in the system should contact the system manager at the above address. Procedures for contesting the content of a record in the Case Tracking and eDiscovery System and appeal procedures can also be found at 41 CFR part 105-64.4.

NOTIFICATION PROCEDURES:

Individuals wishing to inquire if the system contains information about them should contact the system manager at the above address. Procedures for receiving notice can also be found at 41 CFR part 105-64.4.

EXEMPTIONS PROMULGATED FOR THE SYSTEM:

None.

HISTORY:

This notice revises the previously published notice (82 FR 12350, March 2, 2017).

[FR Doc. 2017-20972 Filed 9-29-17; 8:45 am]

BILLING CODE 6820-34-P